DEPARTMENT OF DEFENSE

Department of the Navy

[Docket ID: USN-2019-HQ-0011]

Proposed Collection; Comment Request

AGENCY: Department of the Navy (DON), Department of Defense (DoD).

ACTION: Information collection notice.

SUMMARY: In compliance with the Paperwork Reduction Act of 1995, Program Executive Officer for Enterprise Information Systems (PEO EIS); Enterprise Systems and Services (PMW 250) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Program Executive Officer for Enterprise Information Systems (PEO EIS); Enterprise Systems and Services (PMW 250), 701 South Courthouse Road, Suite 1400, Arlington, VA 22204, Attn: Frank Sowa, 757-541-5850.

SUPPLEMENTARY INFORMATION: Title; Associated Form; and OMB Number: Risk Management Information (RMI) system; OPNAV 3750/16 Safety Investigation Report Enclosure (Promise of Confidentiality) Advice to Witness, OPNAV 5102/10 Advice to Witness, OPNAV 5102/11 Advice to Witness (Promise of Confidentiality); OMB Control Number 0703-0065.

Needs and Uses: The information collection requirement is necessary to collect information on injuries/fatalities, occupational illnesses required of Federal governmental agencies by the Occupational Safety and Health Administration (OSHA), and pertinent information for property damage occurring during DON operations. The data maintained in this system will be used for analytical purposes to improve the DON's accident prevention policies, procedures, standards and operations, as well as to ensure internal data quality assurance. The collection will also help to ensure that all individuals receive required safety, fire, security, force protection, and emergency management training courses necessary to perform assigned duties and comply with Federal, DoD, and DON related regulations.

Affected Public: Individuals and Household, Federal Government.

Annual Burden Hours: 37.5 Hours.

Number of Respondents: 25.

Responses per Respondent: 1.

Annual Responses: 25.

Average Burden per Response: 1.5 Hours.

Frequency: On Occasion.

Respondents are Federal contractors who are involved in an incident or mishap while performing duties in support of a DON contract, or while in/on a DON base, building, vessel, vehicle, or other facility; Military retirees and foreign nationals who are involved in an incident while in/on a DON base, building, vessel, vehicle, or other facility; Military dependents who are involved in an incident while in/on a DON base, building, vessel, vehicle, or other facility, or while accompanying their military sponsor.

Dated: May 16, 2019.
Aaron T. Siegel,
Alternate OSD Federal Register Liaison Officer, Department of Defense.

[FR Doc. 2019-10646 Filed 5-21-19; 8:45 am]

BILLING CODE 5001-06-P